FEDERAL DEPOSIT INSURANCE CORPORATION

Sunshine Act Meetings

TIME AND DATE: 10:00 a.m. on October 17, 2024.

PLACE: This Board meeting will be open to public observation only by webcast. Visit https://www.fdic.gov/news/board-matters/video.html for a link to the webcast. FDIC Board Members and staff will participate from FDIC Headquarters, 550 17th Street NW, Washington, DC.

Observers requiring auxiliary aids (e.g., sign language interpretation) for this meeting should email DisabilityProgram@fdic.gov to make necessary arrangements.

STATUS: Open to public observation via webcast.

MATTERS TO BE CONSIDERED: The Federal Deposit Insurance Corporation's Board of Directors will meet to consider the following matters:

Discussion Agenda

Briefing: Semi-annual Update on the Deposit Insurance Fund (DIF) Restoration Plan.

Summary Agenda

No substantive discussion of the following items is anticipated. The Board will resolve these matters with a single vote unless a member of the Board of Directors requests that an item be moved to the discussion agenda.

Designated Reserve Ratio for 2025.

Delay of Compliance Date for [Certain] [Subpart A] Amendments to FDIC Official Sign and Advertising Rule.

Minutes of a Board of Directors' Meeting Previously Distributed.

CONTACT PERSON FOR MORE INFORMATION: Direct requests for further information concerning the meeting to Debra A. Decker, Executive Secretary of the Corporation, at 202-898-8748.

Authority: 5 U.S.C. 552b

Dated at Washington, DC, on October 10, 2024.
Federal Deposit Insurance Corporation.
James P. Sheesley,
Assistant Executive Secretary.

[FR Doc. 2024-23909 Filed 10-11-24; 11:15 am]

BILLING CODE 6714-01-P